DEPARTMENT OF JUSTICE

Notice of Lodging of Proposed Consent Decree Under the Clean Air Act, Clean Water Act, and Emergency Planning and Community Right-To-Know Act

On June 1, 2016, the Department of Justice lodged a proposed consent decree with the United States District Court for the District of Rhode Island in the lawsuit entitled United States v. Newport Biodiesel, Inc., Civil Action No. 1:16-cv-00242.

The United States filed this lawsuit under the Clean Air Act, the Clean Water Act, and the Emergency Planning and Community Right-to-Know Act. The United States' complaint seeks injunctive relief and civil penalties for alleged violations at Newport Biodiesel, Inc.'s biodiesel manufacturing facility in Newport, Rhode Island. Alleged violations include Newport Biodiesel Inc.'s failure to comply with regulations that govern emissions of hazardous air pollutants (specifically methanol); failure to design and maintain a safe facility and take steps to prevent accidental releases; failure to prepare and implement a spill prevention control and countermeasure plan; and failure to file chemical inventory forms. The consent decree requires the defendant to perform injunctive relief and pay a $396,000 civil penalty.

The publication of this notice opens a period for public comment on the consent decree. Comments should be addressed to the Assistant Attorney General, Environment and Natural Resources Division, and should refer to United States v. Newport Biodiesel, Inc., D.J. Ref. No. 90-5-2-1-11301. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department Web site: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $8.00 (25 cents per page reproduction cost) payable to the United States Treasury.

Robert E. Maher Jr.,
Assistant Section Chief, Environmental Enforcement Section, Environment and Natural Resources Division.

[FR Doc. 2016-13327 Filed 6-6-16; 8:45 am]

BILLING CODE 4410-15-P